DEPARTMENT OF LABOR

Employment and Training Administration

[NAFTA-05470]

Tyco International, Ltd, A Division of Tyco Electronic Power Systems, Formerly Lucent Technologies Including Leased Workers of Adecco Employment, Mesquite TX; Amended Certification Regarding Eligibility To Apply for NAFTA—Transitional Adjustment Assistance

In accordance with Section 250(a), Subchapter D, Chapter 2, Title II, of the Trade Act of 1974, as amended (19 U.S.C. 2273), the Department of Labor issued a Certification of Eligibility to Apply for NAFTA Transitional Adjustment Assistance on January 2, 2002, applicable to workers of Tyco International, LTD, A Division of Tyco Electronic Power Systems, Formerly Lucent Technologies, Mesquite, Texas. The notice was published in the Federal Register on January 11, 2002 (67 FR 1512).

At the request of the State agency, the Department reviewed the certification for workers of the subject firm. Information provided by the State shows that leased workers of Adecco Employment, Garland, Texas were employed at Tyco International, LTD, A Division of Tyco Electronic Power Systems to produce power supplies at the Mesquite, Texas location of the subject firm.

Based on these findings, the Department is amending the certification to include leased workers of Adecco Employment, Garland, Texas employed at Tyco International, Ltd, A Division of Tyco Electronic Power Systems, Mesquite, Texas.

The intent of the Department's certification is to include all workers of Tyco International, Ltd, A Division of Tyco Electronic Power Systems affected by a shift in the production of power supplies to Mexico.

The amended notice applicable to NAFTA-05470 is hereby issued as follows:

All workers of Tyco International, Ltd, A Division of Tyco Electronic Power Systems, Mesquite, Texas including leased workers of Adecco Employment, Garland, Texas engaged in employment related to the production of power supplies at Tyco International, Ltd, A Division of Tyco Electronic Power Systems, Mesquite, Texas who became totally or partially separated from employment on or after October 22, 2000, through January 2, 2004, are eligible to apply for NAFTA-TAA under Section 250 of the Trade Act of 1974.

Signed in Washington, DC, this 9th day of April, 2002.
Linda G. Poole,
Certifying Officer, Division of Trade Adjustment Assistance.

[FR Doc. 02-10055 Filed 4-23-02; 8:45 am]

BILLING CODE 4510-30-M